DEPARTMENT OF THE INTERIOR

Bureau of Land Management

[CO-600-05-1310-EJ]

Notice of Public Meetings, Northwest Colorado Resource Advisory Council Meetings

AGENCY: Bureau of Land Management.

ACTION: Notice of public meetings.

SUMMARY: In accordance with the Federal Land Policy and Management Act (FLPMA) and the Federal Advisory Committee Act of 1972 (FACA), the U.S. Department of the Interior, Bureau of Land Management (BLM) Northwest Colorado Resource Advisory Council (RAC) will meet as indicated below.

DATES: The Northwest Colorado RAC is holding a special meeting on Friday, July 29, 2005. This meeting is being held via conference call, and will begin at 12 p.m. m.t. and adjourn by 1:30 p.m. m.t. A public comment period is scheduled for 12:30 p.m. m.t.

ADDRESSES: This Northwest Colorado RAC meeting will be held via conference call. Any public interested in participating in the call must contact Melodie Lloyd at 970-244-3097 by Thursday, July 28, 12 p.m. m.t. to reserve a line.

FOR FURTHER INFORMATION CONTACT: Jamie Connell, BLM Glenwood Springs Field Manager, 50629 Hwy. 6&24, Glenwood Springs, CO; telephone 970-947-2800; or Melodie Lloyd, Public Affairs Specialist, 2815 H Rd., Grand Junction, CO, telephone 970-244-3097.

SUPPLEMENTARY INFORMATION: The Northwest Colorado RAC advises the Secretary of the Interior, through the Bureau of Land Management, on a variety of public land issues in Colorado.

The purpose of the July 29, 2005 conference call meeting is to discuss the BLM White River Field Office West Douglas Herd Area Amendment to the White River Resource Management Plan, for the purpose of offering guidance and advice to the BLM. This conference call meeting is open to the public. The public may present written comments to the RAC. This conference call meeting will also have time, as identified above, allocated for hearing public comments. Depending on the number of persons wishing to comment and time available, the time for individual oral comments may be limited.

Dated: July 13, 2005.
John Ruhs,
Kremmling Field Manager and Designated Federal Officer for the Northwest, Colorado RAC.

[FR Doc. 05-14151 Filed 7-14-05; 11:59 am]

BILLING CODE 4310-JB-P